NATIONAL CREDIT UNION ADMINISTRATION

Sunshine Act Meetings

TIME AND DATE: 10:00 a.m., January 26, 2023

PLACE: Board Room, 7th Floor, Room 7B, 1775 Duke Street (All visitors must use Diagonal Road Entrance) Alexandria, VA 22314-3428

STATUS: This meeting will be open to the public.

MATTERS TO BE CONSIDERED:

1. Federal Credit Union Loan Interest Rate Ceiling.

2. NCUA's 2023 Annual Performance Plan.

CONTACT PERSON FOR MORE INFORMATION: Melane Conyers-Ausbrooks, Secretary of the Board, Telephone: 703-518-6304.

Melane Conyers-Ausbrooks,
Secretary of the Board.

[FR Doc. 2023-01414 Filed 1-20-23; 11:15 am]

BILLING CODE 7535-01-P